DEPARTMENT OF TRANSPORTATION

Federal Aviation Administration

Tenth Meeting: RTCA Special Committee 214: Working Group 78: Standards for Air Traffic Data Communication Services

AGENCY: Federal Aviation Administration (FAA), DOT.

ACTION: Notice of RTCA Special Committee 214: Working Group 78: Standards for Air Traffic Data Communication Services.

SUMMARY: The FAA is issuing this notice to advise the public of a meeting of the RTCA Special Committee 214: Working Group 78: Standards for Air Traffic Data Communication Services.

DATES: The meeting will be held May 3-7, 2010 from 9 a.m.-5 p.m.

ADDRESS: The meeting will be held at Palma de Majorca, SPAIN, Air Europa Lineas Aereas, S.A., Centro Empresarial Globalia, Ctra. Arenal—Llucmajor, km 21,5, Poligono Industrial Son Noguera, C.P: 07620 Mallorca, Illes Balears, SPAIN.

Hosts: Mr. Juan Rossello—jrossello@air-europa.com and Capt. Jordi Manzano jordi.manzano@air-europa.com.

SUPPLEMENTARY INFORMATION: Pursuant to section 10(a)(2) of the Federal Advisory Committee Act (Pub. L. 92-463, 5 U.S.C., Appendix 2), notice is hereby given for a RTCA Special Committee 214: Working Group 78: Standards for Air Traffic Data Communication Services meeting. The agenda will include:

Additional Information

Additional information and all the documents to be considered can be found in the Web site http://www.faa.gov/go/SC214.

Meeting Objectives

• Approval new Sub-groups, Organization & Process, review preliminary activities

• Coordination with SC-217/WG-44 and SC-186/WG-51

• Agree on approach for Oceanic/Continental Integration

• Review of Position Papers

• Progress on D-RVR & D-HZWX Service assessment

• Review and Update the work plan as required

Agenda

Day 1 (Monday 3rd May 2010)

09h00-12h30: Plenary Session

• Welcome/Introductions/Administrative Remarks

• Approval of the Agenda

• Approval of the Summary of Plenary 9

• Review Action Item Status

• Coordination Activities

• Briefing from SC-217/WG-44 (D-TAXI, Airport Data Base)

• Briefing from SC-186/WG-51 (CPDLC support for Interval Management)

• Review of the work so far

• SPR & INT documents version H

• SC-214/WG-78 TORs and Work Plan

• Review of Position Papers

• Oceanic/Continental Integration Position paper

• Seamless ATS Datalink (Airbus)

• Security paper (FAA)

13h30-17h00: Plenary Session

• New Sub-groups organization

• Announcement of Sub-group Chairs

• Approval of Organization & Process, review preliminary activities

• Configuration Sub-group (CSG-SG)

• Validation Sub-group (VSG-SG)

• VDL Sub-group (VDL-SG)

• Approval of Sub-group Meeting Objectives

Day 2 (Tuesday 4th Marc 2010) 9h00-17h00: Sub-Group Sessions

Day 3 (Wednesday 5th May 2010) 9h00-17h00: Sub-Group Sessions

Day 4 (Thursday 6th May 2010 9h00-17h00): Plenary Session

• Configuration Sub-Group Report & Assignment of Action Items

• Validation Sub-group Report & Assignment of Action Items

• VDL Sub-group Report & Assignment of Action Items

• Review Dates and Locations Upcoming Meetings

• Any Other Business

• Adjourn

Day 5 (Friday 7th May 2010): Sub-Group Sessions

9h00-16H00: Sub-Group Sessions

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on April 12, 2010.
Francisco Estrada C.,
RTCA Advisory Committee.

[FR Doc. 2010-8849 Filed 4-16-10; 8:45 am]

BILLING CODE 4910-13-P